DEPARTMENT OF TRANSPORTATION

Federal Aviation Administration

14 CFR Part 39

[Docket No. FAA-2012-1037; Directorate Identifier 2012-NM-008-AD; Amendment 39-17347; AD 2013-03-12]

RIN 2120-AA64

Airworthiness Directives; Dassault Aviation Airplanes

AGENCY: Federal Aviation Administration (FAA), Department of Transportation (DOT).

ACTION: Final rule.

SUMMARY: We are adopting a new airworthiness directive (AD) for all Dassault Aviation Model Mystere-Falcon 50 airplanes. This AD was prompted by a manufacturer revision to the airplane maintenance manual (AMM) that introduces new or more restrictive maintenance requirements and airworthiness limitations. This AD requires revising the maintenance program to incorporate new or revised maintenance requirements and airworthiness limitations. We are issuing this AD to prevent reduced structural integrity of the airplane.

DATES: This AD becomes effective March 19, 2013.

The Director of the Federal Register approved the incorporation by reference of a certain publication listed in this AD as of March 19, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, WA 98057-3356; telephone (425) 227-1137; fax (425) 227-1149.

SUPPLEMENTARY INFORMATION:

Discussion

We issued a notice of proposed rulemaking (NPRM) to amend 14 CFR part 39 to include an AD that would apply to the specified products. That NPRM was published in the Federal Register on October 3, 2012 (77 FR 60323). That NPRM proposed to correct an unsafe condition for the specified products. The Mandatory Continuing Airworthiness Information (MCAI) states:

The airworthiness limitations and maintenance requirements for the Mystère-Falcon 50 (MF50) type design are included in Dassault Aviation Mystère-Falcon 50 Aircraft Maintenance Manual (AMM) chapter 5-40 and approved by the European Aviation Safety Agency (EASA). EASA issued AD 2008-0221 to require accomplishment of the maintenance tasks and implementation of the airworthiness limitations, as specified in Dassault Aviation MF50 AMM chapter 5-40 at revision 17.

Since that [EASA] AD was issued, Dassault Aviation issued MF50 AMM chapter 5-40 at revision 21, which introduces new or more restrictive maintenance requirements and/or airworthiness limitations.

Dassault Aviation AMM chapter 5-40 revision 21 contains among other changes the following requirements:

—Corrosion Prevention and Control Programme (CPCP). Compliance with this programme was required by DGAC [Direction Générale de l'Aviation Civile] France AD F-2004-162 (EASA approval number 2004-10117). A new CPCP approach is now introduced in MF50 AMM chapter 5-40 at revision 21;

—Check of overpressure tightness on pressurization control regulating valves. Compliance with this check is required by EASA AD 2008-0072 [which corresponds to FAA AD 2010-26-05, Amendment 39-16544 (75 FR 79952, December 21, 2010]. MF50 AMM chapter 5-40 at revision 21 introduces extended inspection interval;

—Non destructive check of the flap tracks 2 and 5. Compliance with this check is required by EASA AD 2010-0080.

The maintenance tasks and airworthiness limitations, as specified in the MF50 AMM chapter 5-40, have been identified as mandatory actions for continued airworthiness of the MF50 type design. Failure to comply with AMM chapter 5-40 at revision 21 might constitute an unsafe condition [which could result in reduced structural integrity of the airplane].

For the reasons described above, this [EASA] AD, which supersedes DGAC France AD F-2004-162, requires the implementation of the maintenance tasks and airworthiness limitations, as specified in Dassault Aviation MF50 AMM chapter 5-40 at revision 21.

The required action is revising the maintenance program to incorporate all airworthiness limitations and maintenance tasks specified in Section 05-40/00, Airworthiness Limitations, of Chapter 5-40, Airworthiness Limitations, of the Dassault Falcon 50/50EX Maintenance Manual, Revision 21, dated June 2011. You may obtain further information by examining the MCAI in the AD docket.

Comments

We gave the public the opportunity to participate in developing this AD. We received no comments on the NPRM (77 FR 60323, October 3, 2012) or on the determination of the cost to the public.

Conclusion

We reviewed the available data and determined that air safety and the public interest require adopting the AD as proposed—except for minor editorial changes. We have determined that these minor changes:

• Are consistent with the intent that was proposed in the NPRM (77 FR 60323, October 3, 2012) for correcting the unsafe condition; and

• Do not add any additional burden upon the public than was already proposed in the NPRM (77 FR 60323, October 3, 2012).

Costs of Compliance

We estimate that this AD will affect 253 products of U.S. registry. We also estimate that it will take about 1 work-hour per product to comply with the basic requirements of this AD. The average labor rate is $85 per work-hour. Based on these figures, we estimate the cost of this AD to the U.S. operators to be $21,505, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 60323, October 3, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-12 Dassault Aviation: Amendment 39-17347. Docket No. FAA-2012-1037; Directorate Identifier 2012-NM-008-AD.

(a) Effective Date

This airworthiness directive (AD) becomes effective March 19, 2013.

(b) Affected ADs

Certain requirements of this AD terminate the requirements of AD 2012-02-18, Amendment 39-16941 (77 FR 12175, February 29, 2012); and AD 2010-26-05, Amendment 39-16544 (75 FR 79952, December 21, 2010); for the airplanes identified in paragraph (c) of this AD.

(c) Applicability

(1) This AD applies to Dassault Aviation Model Mystere-Falcon 50 airplanes, certificated in any category, all serial numbers.

(2) This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j)(1) of this AD. The request should include a description of changes to the required inspections that will ensure the continued operational safety of the airplane.

(d) Subject

Air Transport Association (ATA) of America Code 05, Periodic inspections.

(e) Reason

This AD was prompted by a manufacturer revision to the airplane maintenance manual (AMM) that introduces new or more restrictive maintenance requirements and/or airworthiness limitations. We are issuing this AD to prevent reduced structural integrity of the airplane.

(f) Compliance

You are responsible for having the actions required by this AD performed within the compliance times specified, unless the actions have already been done.

(g) Maintenance Program Revision

Within 30 days after the effective date of this AD: Revise the maintenance program to incorporate all airworthiness limitations and maintenance tasks specified in Section 05-40/00, Airworthiness Limitations, of Chapter 5-40, Airworthiness Limitations, of the Dassault Falcon 50/50EX Maintenance Manual, Revision 21, dated June 2011. The initial compliance times for the tasks are at the applicable times specified in Section 05-40/00, Airworthiness Limitations, of Chapter 5-40, Airworthiness Limitations, of the Dassault Falcon 50/50EX Maintenance Manual, Revision 21, dated June 2011, or within 30 days after the effective date of this AD, whichever occurs later.

(h) No Alternative Actions, Intervals, and/or Critical Design Configuration Control Limitations (CDCCLs)

After accomplishing the revisions required by paragraph (g) of this AD, no alternative actions (e.g., inspections), intervals, and/or CDCCLs may be used other than those specified in Section 05-40/00, Airworthiness Limitations, of Chapter 5-40, Airworthiness Limitations, of the Dassault Falcon 50/50EX Maintenance Manual, Revision 21, dated June 2011, unless the actions, intervals, and/or CDCCLs are approved as an alternative methods of compliance (AMOC) in accordance with the procedures specified in paragraph (j)(1) of this AD.

(i) Terminating Action for Certain ADs

Accomplishing the actions required by paragraph (g) of this AD terminates the requirements of AD 2012-02-18, Amendment 39-16941 (77 FR 12175, February 29, 2012); and AD 2010-26-05, Amendment 39-16544 (75 FR 79952, December 21, 2010); for the Dassault Aviation Model Mystere-Falcon 50 airplanes specified in those ADs.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency Airworthiness Directive 2011-0246, dated December 22, 2011; and Section 05-40/00, Airworthiness Limitations, of Chapter 5-40, Airworthiness Limitations, of the Dassault Falcon 50/50EX Maintenance Manual, Revision 21, dated June 2011; for related information.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Section 05-40/00, Airworthiness Limitations, of Chapter 5-40, Airworthiness Limitations, of the Dassault Falcon 50/50EX Maintenance Manual, Revision 21, dated June 2011.

(ii) Reserved.

(3) For service information identified in this AD, contact Dassault Falcon Jet, P.O. Box 2000, South Hackensack, New Jersey 07606; telephone 201-440-6700; Internet http://www.dassaultfalcon.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 1, 2013.
Ali Bahrami,
Manager, Transport Airplane Directorate, Aircraft Certification Service.

[FR Doc. 2013-02891 Filed 2-11-13; 8:45 am]

BILLING CODE 4910-13-P